DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On November 7, 2022, OFAC determined that the property and interests in property subject to U.S. jurisdiction of the following persons are blocked under the relevant sanctions authority listed below.

Individuals

1. RI, Sok, Dandong, China; DOB 28 Jul 1973; nationality Korea, North; Gender Male; Secondary sanctions risk: North Korea Sanctions Regulations, sections 510.201 and 510.210; Transactions Prohibited For Persons Owned or Controlled By U.S. Financial Institutions: North Korea Sanctions Regulations section 510.214 (individual) [DPRK3] (Linked To: AIR KORYO).

Designated pursuant to section 2(a)(viii) of Executive Order 13722 of March 15, 2016, “Blocking Property of the Government of North Korea and the Workers' Party of Korea, and Prohibiting Certain Transactions With Respect to North Korea,” 81 FR 14943, 3 CFR, 2016 Comp., p. 446 (E.O. 13722 or the “Order”), for being owned or controlled by, or to have acted or purported to act for or on behalf of, directly or indirectly, AIR KORYO, a person whose property and interests in property are blocked pursuant to the Order.

2. YAN, Zhiyong, Beijing, China; DOB 15 Feb 1980; POB Shandong, China; nationality China; Gender Male; Secondary sanctions risk: North Korea Sanctions Regulations, sections 510.201 and 510.210; Transactions Prohibited For Persons Owned or Controlled By U.S. Financial Institutions: North Korea Sanctions Regulations section 510.214; National ID No. 370827198002151333 (China) (individual) [DPRK3] (Linked To: AIR KORYO).

Designated pursuant to section 2(a)(viii) of E.O. 13722 for being owned or controlled by, or to have acted or purported to act for or on behalf of, directly or indirectly, AIR KORYO, a person whose property and interests in property are blocked pursuant to the Order.

Authority: E.O. 13722, 81 FR 14943, 3 CFR, 2016 Comp., p. 446.

Dated: November 7, 2022.
Andrea Gacki,
Director, Office of Foreign Assets Control, U.S. Department of the Treasury.

[FR Doc. 2022-24737 Filed 11-14-22; 8:45 am]

BILLING CODE 4810-AL-P